DEPARTMENT OF DEFENSE

Office of the Secretary

[Transmittal No. 16-36]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 16-36 with attached Policy Justification and Sensitivity of Technology.

Dated: July 25, 2018.
Shelly E. Finke,
Alternate OSD Federal Register Liaison Officer, Department of Defense.

BILLING CODE 5001-06-P

BILLING CODE 5001-06-C

Transmittal No. 16-36

Notice of Proposed Issuance of Letter of Offer Pursuant to Section 36(b)(1) of the Arms Export Control Act, as amended

(i) Prospective Purchaser: The Government of Bahrain

(ii) Total Estimated Value:

Major Defense Equipment * | $490.9 million
Other | $420.5 million
TOTAL | $911.4 million

(iii) Description and Quantity or Quantities of Articles or Services under Consideration for Purchase:

Major Defense Equipment (MDE):

Twelve (12) AH-1Z Attack Helicopters

Twenty-six (26) T-700 GE 401C Engines (twenty-four (24) installed and two (2) spares)

Fourteen (14) AGM-114 Hellfire Missiles

Fifty-six (56) Advance Precision Kill Weapon System II (APKWS-II) WGU-59B

Non-MDE: Also includes fifteen (15) Honeywell Embedded Global Positioning System (GPS) Inertial Navigation System (INS) (EGI) w/Standard Positioning Service (SPS) (including three (3) spares), twelve (12) Joint Mission Planning Systems, twelve (12) M197 20mm gun systems, thirty (30) Tech Refresh Mission Computers, fourteen (14) AN/AAQ-30 Target Sight Systems, twenty six (26) Helmet Mounted Display/Optimized Top Owl, communication equipment, electronic warfare systems, fifteen (15) APX-117 Identification Friend or Foe (IFF), fifteen (15) AN/AAR-47 Missile Warning Systems, fifteen (15) AN/ALE-47 Countermeasure Dispenser Sets, fifteen (15) APR-39C(V)2 Radar Warning Receivers, support equipment, spare engine containers, spare and repair parts, tools and test equipment, technical data and publications, personnel training and training equipment, U.S. government and contractor engineering, technical, and logistics support services, and other related elements of logistics and program support.

(iv) Military Department: Navy.

(v) Prior Related Cases, if any: None.

(vi) Sales Commission, Fee, etc., Paid, Offered, or Agreed to be Paid: None.

(vii) Sensitivity of Technology Contained in the Defense Article or Defense Services Proposed to be Sold: See Attached Annex.

(viii) Date Report Delivered to Congress: April 27, 2018.

* As defined in Section 47(6) of the Arms Export Control Act.

POLICY JUSTIFICATION

Bahrain—AH-l Z Attack Helicopters

The Government of Bahrain has requested twelve (12) AH-1Z attack helicopters, twenty-six (26) T-700 GE 401C engines (twenty-four (24) installed and two (2) spares), fourteen (14) AGM-114 Hellfire Missiles, and fifty-six (56) Advance Precision Kill Weapon System II (APKWS-II) WGU-59Bs. This request also includes fifteen (15) Honeywell Embedded Global Positioning System (GPS) Inertial Navigation System (INS) (EGI) w/Standard Positioning Service (SPS) (including three (3) spares), twelve (12) Joint Mission Planning Systems, twelve (12) M197 20mm gun systems, thirty (30) Tech Refresh Mission Computers, fourteen (14) AN/AAQ-30 Target Sight Systems, twenty six (26) Helmet Mounted Display/Optimized Top Owl, communication equipment, electronic warfare systems, fifteen (15) APX-117 Identification Friend or Foe (IFF), fifteen (15) AN/AAR-47 Missile Warning Systems, fifteen (15) AN/ALE-47 Countermeasure Dispenser Sets, fifteen (15) APR-39C(V)2 Radar Warning Receivers, support equipment, spare engine containers, spare and repair parts, tools and test equipment, technical data and publications, personnel training and training equipment, U.S. government and contractor engineering, technical, and logistics support services, and other related elements of logistics and program support. The total estimated cost is $911.4 million.

This proposed sale will contribute to the foreign policy and national security of the United States by helping to improve the security of a major Non-NATO ally which is an important security partner in the region. Our mutual defense interests anchor our relationship and the Royal Bahraini Air Force plays a significant role in Bahrain's defense.

The proposed sale improves Bahrain's capability to meet current and future threats. Bahrain will use this capability as a deterrent to regional threats and to strengthen its homeland defense. This sale will improve interoperability with U.S. forces. Bahrain will have no difficulty absorbing these helicopters into its armed forces.

This proposed sale of equipment and support will not alter the basic military balance in the region.

The principal contractors will be Bell Helicopter, Textron, Fort Worth, Texas; and General Electric Company, Lynn, Massachusetts. There are no known offset agreements proposed in conjunction with this potential sale.

Implementation of this proposed sale will require multiple trips by U.S. Government and contractor representatives to participate in program and technical reviews plus training and maintenance support in country, on a temporary basis, for a period of sixty (60) months. It will also require three (3) contractor representatives to reside in country for a period of two (2) years to support this program.

There will be no adverse impact on U.S. defense readiness as a result of this proposed sale.

Transmittal No. 16-36

Notice of Proposed Issuance of Letter of Offer Pursuant to Section 36(b)(1) of the Arms Export Control Act

Annex

Item No. vii

(vii) Sensitivity of Technology:

1. The following components and technical documentation for the program are classified as listed below:

a. The AH-1 Z-model has an Integrated Avionics System (IAS) which includes two (2) mission computers and an automatic flight control system. Each crew station has two (2) 8x6-inch multifunction liquid crystal displays (LCD) and one (1) 4.2x4.2-inch dual function LCD display. The communications suite will have NON-COMSEC ARC 210 Ultra High Frequency Very High Frequency (UHF/VHF) radios with associated communications equipment (antennas, mounts). The navigation suite includes Honeywell Embedded Global Positioning System (GPS) Inertial Navigation System (INS) (EGI) w/Standard Positioning Service (SPS), a digital map system, a low-airspeed air data subsystem, which allows weapons delivery when hovering, and a AN/APX-117/A(V) IFF Transponder.

b. The crew is equipped with the Optimized Top Owl (OTO) helmet-mounted sight and display system. The OTO has a Day Display Module (DDM) and a Night Display Module (NDM). The AH-lZ has survivability equipment including the AN/AAR-47 Missile Warning and Laser Detection System, AN/ALE-47 Counter Measure Dispensing System (CMDS) and the AN/APR-39 Radar Warning Receiver (RWR) to cover countermeasure dispensers, radar warning, incoming/on-way missile warning and on- fuselage laser-spot warning systems.

c. The following performance data and technical characteristics are classified as follows for the AH-1Z Airframe: countermeasure capability—SECRET, counter-countermeasures capability—SECRET, vulnerability to countermeasures—SECRET, vulnerability to electromagnetic pulse from nuclear environmental effects—SECRET, radar signature—SECRET, infrared signature—SECRET, acoustic signature—CONFIDENTIAL, ultraviolet signature—SECRET, mission effectiveness against threats—CONFIDENTIAL, target sight system—up to SECRET, Tactical Air Moving Map Capability (TAMMAC)—up to SECRET, Honeywell Embedded GPS INS (EGI) w/SPS—UNCLASSIFIED, AN/ARC-210 RT 629F-23—UNCLASSIFIED, AN/APX-117/A(V) IFF Transponder—UNCLASSIFIED, VCR or DVR—up to SECRET, APR-39 Radar Warning System (RWS)—up to SECRET, AN/AAR-47 Missile/Laser Warning System (MLWS)—up to SECRET, AN/ALE-47 Countermeasures Dispenser Set (CMDS)—up to SECRET.

d. The APKWS is a low-cost semi-active laser guidance kit developed by BAE Systems which converts unguided 2.75 inch (70 mm) rockets into precision laser-guided rockets. The classification is up to SECRET.

e. The AGM-114 Hellfire II Semi-Active Laser (SAL) Missiles are rail-launched guided missiles developed and produced by Lockheed Martin. The guidance system employs a SAL seeker. The SAL missile homes in on the laser energy reflected off a target that has been illuminated by a laser designator. The laser can be on either the launch platform or another platform that can be separated from it by several kilometers. The target sets are armor, bunkers, caves, enclosures, boats, and enemy personnel. The weapon system hardware, as an “All Up Round,” is UNCLASSIFIED. The highest level of classified information to be disclosed regarding the AGM-114 Hellfire II missile software is SECRET. The highest level of classified information that could be disclosed by a proposed sale or by testing of the end item is SECRET and the highest level that must be disclosed for production, maintenance, or training is CONFIDENTIAL.

2. If a technologically advanced adversary were to obtain knowledge of the specific hardware and software elements, the information could be used to develop countermeasures which might reduce weapon system effectiveness.

3. The consequences of the loss of this technology to a technologically advanced or competent adversary could result in the compromise of equivalent systems, which in turn could reduce those weapons system's effectiveness, or be used in the development of a system with similar or advanced capabilities.

4. A determination has been made that the Government of Bahrain can provide substantially the same degree of protection for the technology being released as the U.S. Government. This sale of the AH-l Z Helicopter and associated weapons will further U.S. foreign policy and national security objectives.

5. All defense articles and services listed in this transmittal are authorized for release and export to the Government of Bahrain.

[FR Doc. 2018-16192 Filed 7-27-18; 8:45 am]

BILLING CODE 5001-06-P